DEPARTMENT OF DEFENSE

GENERAL SERVICES ADMINISTRATION

NATIONAL AERONAUTICS AND SPACE ADMINISTRATION

48 CFR Parts 4, 12, 15, 18, 46, and 52

[FAC 2022-06; Item II; Docket No. FAR-2022-0052; Sequence No. 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: May 1, 2022.

FOR FURTHER INFORMATION CONTACT: Ms. Lois Mandell, Regulatory Secretariat Division (MVCB), at 202-501-4755 or GSARegSec@gsa.gov. Please cite FAC 2022-06, Technical Amendments.

SUPPLEMENTARY INFORMATION: This document makes editorial changes to 48 CFR parts 4, 12, 15, 18, 46, and 52.

List of Subjects in 48 CFR Parts 4, 12, 15, 18, 46, and 52

Government procurement.

William F. Clark,
Director, Office of Government-wide Acquisition Policy, Office of Acquisition Policy, Office of Government-wide Policy.

Therefore, DoD, GSA, and NASA amend 48 CFR parts 4, 12, 15, 18, 46, and 52 as set forth below:

1. The authority citation for 48 CFR parts 4, 12, 15, 18, 46, and 52 continues to read as follows:

Authority: 40 U.S.C. 121(c); 10 U.S.C. chapter 137; and 51 U.S.C. 20113.

PART 4—ADMINISTRATIVE AND INFORMATION MATTERS

4.402 [Amended]

2. Amend section 4.402 by removing from paragraph (d)(1) the phrase “via the Procurement Integrated Enterprise Environment (PIEE) at https://wawf.eb.mil” and adding “https://www.dcsa.mil/is/nccs” in its place.

3. Amend section 4.1103 by revising paragraph (a)(3) to read as follows:

4.1103 Procedures.

(a) * * *

(3) Need not verify SAM registration before placing an order or call if the contract or agreement includes the clause at 52.204-13, System for Award Management Maintenance, or a similar agency clause, except when use of the Governmentwide commercial purchase card is contemplated as a method of payment. (See 32.1108(b)(2).)

* * * * *

PART 12—ACQUISITION OF COMMERCIAL PRODUCTS AND COMMERCIAL SERVICES

12.302 [Amended]

4. Amend section 12.302 in paragraph (a) by removing from the second sentence the phrase “commercial items” and adding “commercial products and commercial services” in its place.

12.402 [Amended]

5. Amend section 12.402 in paragraph (a) by removing from the fourth sentence the phrase “commercial items” and adding “commercial products or commercial services” in its place.

PART 15—CONTRACTING BY NEGOTIATION

15.601 [Amended]

6. Amend section 15.601 by removing the definition of “Commercial item offer” and adding the definition “Commercial product or commercial service offer” in its place to read as follows:

15.601 Definitions.

* * * * *

Commercial product or commercial service offer means an offer of a commercial product or commercial service that the vendor wishes to see introduced in the Government's supply system as an alternate or a replacement for an existing supply item. This term does not include innovative or unique configurations or uses of commercial products or commercial services that are being offered for further development and that may be submitted as an unsolicited proposal.

* * * * *

PART 18—EMERGENCY ACQUISITIONS

18.205 [Amended]

7. Amend section 18.205 by removing from paragraph (b) the link “https://www.whitehouse.gov/sites/whitehouse.gov/files/omb/assets/procurement_guides/emergency_acquisitions_guide.pdf” and adding the link “https://www.whitehouse.gov/wp-content/uploads/legacy_drupal_files/omb/assets/procurement_guides/emergency_acquisitions_guide.pdf” in its place.

PART 46—QUALITY ASSURANCE

46.102 [Amended]

8. Amend section 46.102 by removing from paragraph (g) the phrase “(see subpart 42.1.)” and adding “(see 42.002 and subpart 42.2).” in its place.

PART 52—SOLICITATION PROVISIONS AND CONTRACT CLAUSES

9. Amend section 52.212-5 by—

a. Revising the date of the clause;

b. Removing from paragraph (b)(36) the date “NOV 2021” and adding “MAY 2022” in its place;

c. Removing from paragraph (e)(1)(xvi) the date “NOV 2021” and adding “MAY 2022” in its place; and

d. In Alternate II:

i. Revising the date of the Alternate; and

ii. Removing from paragraph (e)(1)(ii)(O) the date “NOV 2021” and adding “MAY 2022” in its place.

The revisions read as follows:

52.212-5 Contract Terms and Conditions Required To Implement Statutes or Executive Orders—Commercial Products and Commercial Services.

* * * * *

Contract Terms and Conditions Required To Implement Statutes or Executive Orders—Commercial Products and Commercial Services (May 2022)

* * * * *

Alternate II (May 2022). * * *

* * * * *

10. Amend section 52.222-54 by—

a. Revising the date of the clause; and

b. Removing from paragraph (c) the phrase “http://www.dhs.gov/E-Verify” and adding “https://www.e-Verify.gov” in its place.

The revision reads as follows:

52.222-54 Employment Eligibility Verification.

* * * * *

Employment Eligibility Verification (May 2022)

* * * * *

[FR Doc. 2022-08578 Filed 4-25-22; 8:45 am]

BILLING CODE 6820-EP-P